FEDERAL COMMUNICATIONS COMMISSION

47 CFR Part 22

Public Mobile Services

CFR Correction

In Title 47 of the Code of Federal Regulations, Parts 20 to 39, revised as of October 1, 2013, on page 60, in § 22.355, in Table C-1, the heading of the third column is corrected to read “Mobile >3 watts (ppm)”.

[FR Doc. 2014-14612 Filed 6-19-14; 8:45 am]

BILLING CODE 1505-01-D